DEPARTMENT OF TRANSPORTATION

Federal Motor Carrier Safety Administration

[Docket No. FMCSA-2023-0172]

Agency Information Collection Activities; New Information Collection: Impact of Driver Detention Time on Safety and Operations

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This notice invites comments on a proposed information collection titled Impact of Driver Detention Time on Safety and Operations. This research study will collect data on commercial motor vehicle (CMV) driver detention time representative of the major segments of the motor carrier industry, analyze that data to determine the frequency and severity of detention time, and assess the utility of existing intelligent transportation systems (ITS) solutions to measure detention time. Approximately 80 carriers and 2,500 CMV drivers will provide data in the study. The study will provide a better understanding of the impact of driver detention time on driver safety and CMV operations and inform strategies that may be used to mitigate driver detention time.

DATES: Comments on this notice must be received on or before October 23, 2023.

ADDRESSES: You may submit comments identified by Docket Number FMCSA-2023-0172 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Dan Britton, Office of Research and Registration, DOT, FMCSA, West Building 6th Floor, 1200 New Jersey Avenue SE, Washington, DC 20590-0001; 202-366-9980; dan.britton@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2023-0172), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission. If you want us to notify you that we received your comments, please include a self-addressed, stamped envelope or postcard, or print the acknowledgement page that appears after submitting comments online.

To submit your comment online, go to https://www.regulations.gov/docket/FMCSA-2023-0172/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its decision making. DOT posts these comments, without edit, including any personal information the commenter provides, to www.regulations.gov, as described in the system of records notice (DOT/ALL-14 FDMS), which can be reviewed at www.dot.gov/privacy.

Background

“Detention time” refers to the extra time commercial motor vehicle (CMV) operators wait at shipping and receiving facilities due to delays associated with the loading and unloading of cargo. Drivers are often not paid for this extra time. Although there is currently no standard definition of detention time, the CMV industry, the U.S. Government, and academic detention research in the United States have typically used dwell time—the total amount of time spent at a facility—exceeding 2 hours to define when detention time occurs.

Detention time in the CMV industry is a longstanding issue and consistently ranks as one of the top problems for a large portion of CMV operators on an ongoing basis. Further, detention time often results in lost revenue for many drivers and carriers. Reducing detention time may reduce costs for carriers, increase pay for drivers, and improve CMV drivers' ability to make deliveries on time or arrive at a destination as planned without violating hours of service (HOS) requirements. Finally, drivers who experience less detention time may be more likely to drive safely to reach their destinations within the HOS limits and less likely to operate beyond HOS limits and improperly log their driving and duty time to make deliveries on time.

An important first step in addressing detention time is understanding the factors that contribute to the issue. FMCSA completed a study in 2014 on the impact of detention time on CMV safety. Although this study provided valuable initial insights, it had several limitations, including a small sample of mostly large carriers, a rudimentary estimation of detention time, the inability to identify time spent loading/unloading, and data that did not cover an entire 12-month period. Therefore, FMCSA needs additional data from a broader sample of carriers to understand the safety and operational impact of detention time, to better understand why detention time occurs, and to identify potential mitigation strategies the CMV industry may use to reduce detention time while improving operational efficiencies and safety.

The purpose for obtaining data in this study is to evaluate the impact of driver detention time on safety and CMV operations. Specifically, there are three primary objectives for the data collection in this study: (i) assess the frequency and severity of driver detention time using data that represent the major segments of the motor carrier industry; (ii) assess the utility of existing ITS solutions to measure detention time; and (iii) prepare a final report that summarizes the findings, answers the research questions, and offers strategies to reduce detention time. Completing these research objectives will provide insight into any relationship between driver detention time and CMV safety. Additionally, the findings from this study can contribute to a more complete understanding of these issues and facilitate private sector decisions that lead to reductions in detention time and improvements in safety and supply chain efficiency.

The study includes data collection via electronic logging devices (ELDs), transportation management systems (TMS), vehicle telematic systems, safety records, and answers to questions delivered through the carriers' dispatching systems. The TMS, ELD, telematics, and safety data are already collected by carriers. The only additional data that will be collected will be the answers to questions submitted through the carriers' dispatching systems. This information will allow FMCSA to identify the severity and frequency of detention time, the factors that contribute to detention time, and the administrative, operational, and safety outcomes of detention time. After agreeing to participate in the study, carriers will collect and provide 12 months of data.

The carriers will be selected so that the sample is representative of the nation. Carriers will primarily be selected from the approximately 3,000 SpeedGauge clients in the Driven Data Clearinghouse, which is maintained by SpeedGauge and combines vehicle, telematics, ELD, and vehicle claims data. However, the study may include other carriers that express interest in participating. The final sample from this source will include up to 80 carriers with up to 2,500 total vehicles. This sample will include a variety of carrier operations, including long haul/short haul, private/company fleets and for-hire fleets, port servicing (primarily chassis), owner-operators, hourly and mileage-based operators, truckload/less-than-truckload, and dedicated local delivery. These carriers will range in size from single-vehicle owner-operators to carriers with hundreds of trucks, with a likely average fleet size of 31 vehicles. Multiple analyses will be performed, including assessing the relationships between detention time and characteristics of carriers, facility locations, and driver schedules (appointment times, time of day, day of week, month, and season). Measures of detention time will include the number of detained stops per shift and the duration of each detention. Regression models will be used to compare these variables for significant differences in associated detention time.

Another analysis will examine the relationship between detention time and safety outcomes during the shifts following the detention time. The relationships between detention time and safety outcomes will be evaluated by generalized linear models such as Poisson or negative binomial regression models. The independent variables will be the characteristics of detention time, such as detention time per shift. The response variable will be the number of safety outcomes (e.g., crashes) that occurred during the subsequent shift. The driving time will be treated as an exposure variable to normalize crash risk with respect to driving time.

Finally, the study will estimate the cost per year associated with detention time, including lost productivity, disruptions to the supply chain, and any increases in fatal, injury, and property-damage-only crashes.

Title: Impact of Driver Detention Time on Safety and Operations.

OMB Control Number: 2126-00XX.

Type of Request: New ICR.

Respondents: CMV carriers and drivers.

Estimated Number of Respondents: 80 carriers and 2,500 CMV drivers.

Estimated Time per Response: 30 seconds (for drivers and the operation team).

Expiration Date: This is a new ICR.

Frequency of Response: Once per delivery/pick-up.

Estimated Total Annual Burden: 8,112.50 hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2023-18239 Filed 8-23-23; 8:45 am]

BILLING CODE 4910-EX-P